DEPARTMENT OF HEALTH AND HUMAN SERVICES

Centers for Disease Control and Prevention

HIV/AIDS Surveillance and Service Data Analysis in the Republic of Haiti Under the President's Emergency Plan for AIDS Relief (PEPFAR)

AGENCY: Centers for Disease Control and Prevention (CDC), Department of Health and Human Services (HHS).

ACTION: General notice; notice of expansion supplement award.

SUMMARY: The Centers for Disease Control and Prevention (CDC), located within the Department of Health and Human Services (HHS) announces intent to award additional expansion supplement funds to National Alliance of State & Territorial AIDS Directors (NASTAD) Cooperative Agreement Number PS001842 in the amount of $1,250,000.

FOR FURTHER INFORMATION CONTACT: Project Officer: Christen Suhr, Centers for Disease Control, Center for Global Health, Division of Global Health Protection, 3400 Port-au-Prince Place, Washington, DC 20521-3400, Email: DZE0@cdc.gov.

SUPPLEMENTARY INFORMATION: The purpose of this award is to carry out periodic Antenatal Clinic (ANC) sero-surveys in order to follow the trend of both the HIV/AIDS and syphilis epidemics among pregnant women attending these clinics in the Republic of Haiti; Perform HIV drug resistance threshold study to evaluate the extent of transmitted HIV drug resistance in sero-sentinel surveillance sites; Perform periodic triangulation of data in order to demonstrate program impact, identify areas for improvement, direct new programs and enhance existing programs as well as help direct policy changes; Perform cohort studies to capture data on key aspects of patient care and treatment in a selected number of ART sites of the PEPFAR network at baseline, 6 months, and then yearly in order to assess the performance of the ART sites regarding delivery of treatment; To assist with data analysis of PEPFAR approved studies, including monitoring and evaluation activities, on-going program assessment and public health evaluations (PHE).

During FY15, the purpose of the award is to work directly with The Haiti Ministry of Health (MSPP) to strengthen their capacity to effectively prevent HIV infections; improve care and treatment of HIV/AIDS and co-infection; build the capacity for the local and regional collection of strategic information and its use for program management and development; and, increase the government of Haiti's capacity to lead and manage a sustainable response to the HIV epidemic.

Initial award date 9/30/2009-9/29/2014; additional funds and time needed to carryout award 9/30/2014-9/30/2015. Project Number is CDC-RFA-PS09-981.

Dated: September 25, 2014.
Ron A. Otten,
Acting Deputy Associate Director for Science, Centers for Disease Control and Prevention.

[FR Doc. 2014-23350 Filed 9-30-14; 8:45 am]

BILLING CODE 4163-18-P